DEPARTMENT OF TRANSPORTATION

Federal Highway Administration

Notice of Final Federal Agency Action on SH 249, From South of FM 1774/FM 149 in Pinehurst to FM 1774 North of Todd Mission, Montgomery and Grimes Counties, Texas

AGENCY: Federal Highway Administration (FHWA), U.S. Department of Transportation (DOT).

ACTION: Notice of Limitation on Claims for Judicial Review of Actions by TxDOT and Federal Agencies.

SUMMARY: This notice announces actions taken by TxDOT and Federal agencies that are final within the meaning of 23 U.S.C. 139(l)(1). The environmental review, consultation, and other actions required by applicable Federal environmental laws for this project are being, or have been, carried-out by TxDOT pursuant to 23 U.S.C. 327 and a Memorandum of Understanding dated December 16, 2014 and executed by FHWA and TxDOT. The actions relate to a proposed highway project, SH 249, from south of FM 1774/FM 149 in Pinehurst to FM 1774 north of Todd Mission, in Montgomery and Grimes Counties in the State of Texas. Those actions grant licenses, permits, and approvals for the project. Under MAP-21 section 1319, TxDOT has issued a combined Final Environmental Impact Statement (FEIS) and Record of Decision (ROD) for this action.

DATES: By this notice, TxDOT is advising the public of final agency actions subject to 23 U.S.C. 139(l)(1). A claim seeking judicial review of the Federal agency actions on the highway project will be barred unless the claim is filed on July 18, 2016. If the Federal law that authorizes judicial review of a claim provides a time period of less than 150 days for filing such claim, then that shorter time period still applies.

FOR FURTHER INFORMATION CONTACT: Mr. Carlos Swonke, P.G., Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: Notice is hereby given that TxDOT and Federal agencies have taken final agency actions by issuing licenses, permits, and approvals for the following highway project in the State of Texas: SH 249, from south of FM 1774/FM 149 in Pinehurst to FM 1774 north of Todd Mission, in Montgomery and Grimes Counties. The project will be a 15-mile-long, four-mainlane, controlled-access tollway with intermittent frontage roads within a typical 400-foot-wide right-of-way (ROW). The proposed freeway will be on new alignment. The actions by TxDOT and the Federal agencies, and the laws under which such actions were taken, are described in the Final Environmental Impact Statement (FEIS) and Record of Decision (ROD) issued on January 12, 2016, and in other documents in the TxDOT project file. The FEIS/ROD, and other documents in the TxDOT project file are available by contacting TxDOT at the addresses provided above. The TxDOT FEIS/ROD can be viewed and downloaded from the project Web site at https://www.txdot.gov/inside-txdot/projects/studies/houston/sh249-extension.html or by visiting the TxDOT Houston District Office at 7600 Washington Avenue, Houston, TX 77007; the TxDOT Bryan District Office at 2591 North Earl Rudder Freeway, Bryan, TX 77803; or the TxDOT Montgomery County Area Office at 901 N. FM 3083 East, Conroe, TX 77303.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction. The regulations implementing Executive Order 12372 regarding intergovernmental consultation on Federal programs and activities apply to this program.)

Authority: 23 U.S.C. 139(l)(1)

Issued on: February 8, 2016.
Michael T. Leary,
Director, Planning and Program Development, Federal Highway Administration.

[FR Doc. 2016-03031 Filed 2-18-16; 8:45 am]

BILLING CODE 4910-22-P